DEPARTMENT OF COMMERCE

International Trade Administration

[A-428-801]

Ball Bearings and Parts Thereof From Germany: Amended Final Results of Antidumping Duty Administrative Review Pursuant to a Court Decision

AGENCY: Import Administration, International Trade Administration, Department of Commerce.

SUMMARY: On June 29, 2007, the United States Court of International Trade (CIT) affirmed the redetermination of the Department of Commerce (the Department) on voluntary remand of the final results of the administrative review of the antidumping duty order on ball bearings and parts thereof from Germany. See Paul Müller Industrie GmbH & Co. v. United States, 502 F. Supp. 2d 1271 (CIT 2007). The Department is amending the final results of the administrative review of the antidumping duty order on ball bearings and parts thereof from Germany covering the period of review May 1, 2002, through April 30, 2003, to reflect the CIT's order.

DATES: Effective Date: April 27, 2009.

FOR FURTHER INFORMATION CONTACT: Yang Jin Chun or Richard Rimlinger, AD/CVD Operations, Office 5, Import Administration, International Trade Administration, U.S. Department of Commerce, 14th Street and Constitution Avenue, NW, Washington, DC 20230; telephone: (202) 482-5760 or (202) 482-4477, respectively.

SUPPLEMENTARY INFORMATION:

Background

On September 15, 2004, the Department published the final results of the administrative review of the antidumping duty order on ball bearings and parts thereof from Germany for the period May 1, 2002, through April 30, 2003. See Antifriction Bearings and Parts Thereof From France, et al.: Final Results of Antidumping Duty Administrative Reviews, Rescission of Administrative Reviews in Part, and Determination To Revoke Order in Part, 69 FR 55574 (September 15, 2004) (Final Results). The Final Results were amended in Ball Bearings and Parts Thereof From Germany; Amended Final Results of Antidumping Duty Administrative Review, 69 FR 63507 (November 2, 2004) (Amended Final Results).

Paul Müller Industrie GmbH & Co. (Paul Müller) and Timken US Corporation¹ filed lawsuits challenging the Final Results as amended by the Amended Final Results. The Department requested a voluntary remand on two issues. On May 26, 2006, the CIT granted the Department's request and ordered the Department to correct a ministerial error involving a billing adjustment reported by Paul Müller for one home-market transaction, and to recalculate its antidumping margin accordingly, and explain its treatment of Paul Müller's inventory carrying costs. See Paul Müller Industrie GmbH & Co. v. United States, 435 F. Supp. 2d 1241, 1246-47 (CIT 2006) (Paul Müller 2006)

¹ Timken US Corporation is currently known as the Timken Company.

In accordance with the CIT's remand order in Paul Müller 2006, the Department filed its redetermination on remand of the final results (remand results) on September 13, 2006. In its remand results, the Department corrected the ministerial error and made a change to its treatment of the inventory carrying costs to ensure that home-market and U.S. inventory carrying costs were calculated on a consistent basis. On June 29, 2007, the CIT affirmed the Department's remand results. See Paul Müller Industrie GmbH & Co. v. United States, 502 F. Supp. 2d 1271 (CIT 2007).

Amended Final Results of the Review

Based on the remand results, we are amending the weighted-average margin for Paul Müller for the period May 1, 2002, through April 30, 2003, from 0.44 percent to 0.46 percent.

Assessment of Duties

The Department has determined, and U.S. Customs and Border Protection shall assess, antidumping duties on all appropriate entries covered by these amended final results.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO as explained in the APO itself. See 19 CFR 351.305(a)(3). Timely written notification of the destruction of APO materials or conversion to judicial protective order is hereby requested. Failure to comply with the regulations and terms of an APO is a sanctionable violation.

We are issuing and publishing these amended final results of administrative review in accordance with sections 751(a)(1) and 777(i) of the Tariff Act of 1930, as amended.

Dated: April 21, 2009.
Ronald K. Lorentzen,
Acting Assistant Secretary for Import Administration.

[FR Doc. E9-9524 Filed 4-24-09; 8:45 am]

BILLING CODE 3510-DS-S